DEPARTMENT OF TRANSPORTATION

Federal Motor Carrier Safety Administration

[Docket No. FMCSA-2017-0018]

Qualification of Drivers; Exemption Applications; Vision

AGENCY: Federal Motor Carrier Safety Administration (FMCSA), DOT.

ACTION: Notice of applications for exemptions; request for comments.

SUMMARY: FMCSA announces receipt of applications from 10 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before June 26, 2017. All comments will be investigated by FMCSA. The exemptions will be issued the day after the comment period closes.

ADDRESSES: You may submit comments bearing the Federal Docket Management System (FDMS) Docket No. FMCSA-2017-0018 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 10 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Blaine R. Dickman

Mr. Dickman, 61, has had a prosthetic right eye since childhood. The visual acuity in his right eye is no light perception, and in his left eye, 20/20. Following an examination in 2017, his optometrist stated, “In my medical opinion, Blaine has sufficient vision to perform the driving tasks required to operate a commercial vehicle.” Mr. Dickman reported that he has driven buses for 19 years, accumulating 76,000 miles. He holds a Class B CDL from Nevada. His driving record for the last 3 years shows no crashes and no convictions for moving violations in a CMV.

Sean J. Dornin

Mr. Dornin, 44, has had a corneal transplant in his left eye since childhood due to a congenital cataract. The visual acuity in his right eye is 20/20, and in his left eye, hand motion. Following an examination in 2017, his optometrist stated, “In my medical opinion, Sean Dornin has sufficient vision to perform the driving tasks required to operate a commercial vehicle.” Mr. Dornin reported that he has driven straight trucks for 20 years, accumulating 600,000 miles, and tractor-trailer combinations for 20 years, accumulating 900,000 miles. He holds a Class AM CDL from Pennsylvania. His driving record for the last 3 years shows no crashes and no convictions for moving violations in a CMV.

Wade J. Jandreau

Mr. Jandreau, 42, has optic neuropathy in his left eye due to a traumatic incident in 1990. The visual acuity in his right eye is 20/20, and in his left eye, 20/70. Following an examination in 2016, his optometrist stated, “In my medical opinion, the patient has sufficient vision to perform the driving tasks required to operate a commercial vehicle.” Mr. Jandreau reported that he has driven straight trucks for 5 years, accumulating 100,000 miles, and tractor-trailer combinations for 8 years, accumulating 200,000 miles. He holds a Class A CDL from Maine. His driving record for the last 3 years shows no crashes and no convictions for moving violations in a CMV.

Eric C. Johnson

Mr. Johnson, 63, has a prosthetic left eye due to a traumatic incident in childhood. The visual acuity in his right eye is 20/20, and in his left eye, no light perception. Following an examination in 2017, his optometrist stated, “I do certify that in my medical opinion, he is able to perform the driving tasks required to maintain a commercial driver's license.” Mr. Johnson reported that he has driven straight trucks for 8 years, accumulating 4,000 miles. He holds an operator's license from Wisconsin. His driving record for the last 3 years shows no crashes and no convictions for moving violations in a CMV.

Thomas M. Leonard

Mr. Leonard, 65, has a macular scar in his right eye due to a traumatic incident in 1970. The visual acuity in his right eye is counting fingers, and in his left eye, 20/20. Following an examination in 2017, his optometrist stated, “In my medical opinion, Leonard, [sic] Thomas has sufficient vision to perform the driving tasks required to operate a commercial vehicle.” Mr. Leonard reported that he has driven straight trucks for 20 years, accumulating 932,720 miles. He holds a Class AM CDL from Pennsylvania. His driving record for the last 3 years shows no crashes and no convictions for moving violations in a CMV.

James Q. Meeks, Jr.

Mr. Meeks, 51, has had amblyopia in his right eye since childhood. The visual acuity in his right eye is 20/70, and in his left eye, 20/20. Following an examination in 2017, his optometrist stated that, in his medical opinion, Mr. Meeks does have sufficient vision to operate a commercial motor vehicle. Mr. Meeks reported that he has driven straight trucks for 5 years, accumulating 26,000 miles, and tractor-trailer combinations for 5 years, accumulating 26,000 miles. He holds a Class A CDL from Georgia. His driving record for the last 3 years shows no crashes and no convictions for moving violations in a CMV.

Al V. Nowviock

Mr. Nowviock, 56, has a prosthetic left eye due to a traumatic incident in 2007. The visual acuity in his right eye is 20/20, and in his left eye, no light perception. Following an examination in 2017, his optometrist stated, “In my opinion, his vision is sufficient to continue to operate a commercial vehicle.” Mr. Nowviock reported that he has driven tractor-trailer combinations for 20 years, accumulating 1.05 million miles. He holds a Class A CDL from Illinois. His driving record for the last 3 years shows no crashes and no convictions for moving violations in a CMV.

Hubert O. Pollard

Mr. Pollard, 44, has a prosthetic left eye due to a traumatic incident in 2002. The visual acuity in his right eye is 20/15, and in his left eye, no light perception. Following an examination in 2017, his ophthalmologist stated, “If you are willing to waive the restriction prohibiting a monocular patient from operating a commercial vehicle, in the case of Mr. Pollard I am happy to certify he has sufficient vision to operate a commercial vehicle.” Mr. Pollard reported that he has driven straight trucks for 17 years, accumulating 1.275 million miles. He holds an operator's license from North Dakota. His driving record for the last 3 years shows no crashes and no convictions for moving violations in a CMV.

Daniel L. Troop

Mr. Troop, 56, has complete loss of vision in his right eye due to a traumatic incident in 1978. The visual acuity in his right eye is no light perception, and in his left eye, 20/20. Following an examination in 2016, his optometrist stated, “In my opinion, Danny has sufficient vision to perform the tasks required to operate a commercial vehicle.” Mr. Troop reported that he has driven straight trucks for 35 years, accumulating 350,000 miles, and tractor-trailer combinations for 35 years, accumulating 1.4 million miles. He holds a Class CA CDL from Michigan. His driving record for the last 3 years shows no crashes and no convictions for moving violations in a CMV.

Jeffrey Waterbury

Mr. Waterbury, 53, has a macular scar in his left eye due to a traumatic incident in 1982. The visual acuity in his right eye is 20/60, and in his left eye, 20/20. Following an examination in 2016, his optometrist stated, “Mr. Waterbury has demonstrated sufficient vision to operate a commercial vehicle.” Mr. Waterbury reported that he has driven straight trucks for 32 years, accumulating 1.12 million miles, and tractor-trailer combinations for 2 years, accumulating 2,000 miles. He holds a Class A CDL from New York. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2017-0018 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2017-0018 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: May 12, 2017.
Larry W. Minor,
Associate Administrator for Policy.

[FR Doc. 2017-10773 Filed 5-25-17; 8:45 am]

BILLING CODE 4910-EX-P